DEPARTMENT OF THE INTERIOR

National Park Service

Notice of Inventory Completion: Department of Anthropology and Ethnic Studies, University of Nevada Las Vegas, Las Vegas, NV

AGENCY: National Park Service, Interior.

ACTION: Notice.

Notice is here given in accordance with the Native American Graves Protection and Repatriation Act (NAGPRA), 25 U.S.C. 3003, of the completion of an inventory of human remains and associated funerary objects in possession of the Department of Anthropology & Ethnic Studies, University of Nevada Las Vegas, Las Vegas, NV. The human remains and associated funerary objects were removed from Churchill, Ely, Lincoln, Nye, Pershing, Washoe and White Pine Counties, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Department of Anthropology & Ethnic Studies, University of Nevada Las Vegas, professional staff in consultation with representatives of the Great Basin Inter-Tribal NAGPRA Coalition, a non-Federally recognized Indian group, which represents the Inter-Tribal Council of Nevada, a non-Federally recognized Indian group, and the following Federally-recognized Indian tribes: Alturas Indian Rancheria, California; Battle Mountain Shoshone Tribe (Constituent Band of the Te-Moak Tribe of Western Shoshone Indians of Nevada); Big Pine Paiute Band of Owens Valley Paiute Shoshone Indians of the Big Pine Reservation, California; Bridgeport Paiute Indian Colony of California; Burns Paiute Tribe, California; Chemehuevi Indian Tribe of the Chemehuevi Reservation, California; Duckwater Shoshone Tribe of the Duckwater Reservation, Nevada; Ely Shoshone Tribe of Nevada; Las Vegas Tribe of Paiute Indians of the Las Vegas Indian Colony, Nevada; Lovelock Paiute Tribe of the Lovelock Indian Colony, Nevada; Paiute-Shoshone Indians of the Bishop Community of the Bishop Colony, California; Paiute-Shoshone Tribe of the Fallon Reservation and Colony, Nevada; Reno-Sparks Indian Colony, Nevada; Shoshone-Paiute Tribes of the Duck Valley Reservation, Nevada; South Fork Band (Constituent Band of the Te-Moak Tribe of Western Shoshone Indians of Nevada); Susanville Indian Rancheria, California; Te-Moak Tribe of Western Shoshone Indians of Nevada; Yerington Paiute Tribe of the Yerington Colony & Campbell Ranch, Nevada; and Yomba Shoshone Tribe of the Yomba Reservation, Nevada. Direct consultation was made with the Duckwater Shoshone Tribe of the Duckwater Reservation, Nevada; Paiute-Shoshone Tribe of the Fallon Reservation and Colony, Nevada; and Pyramid Lake Paiute Tribe of the Pyramid Lake Reservation, Nevada.

At an unknown date, human remains representing a minimum of one individual were removed from near Hiko, Lincoln County, NV, by Richard Brooks during an archeological excavation project (AHUR 141). According to the notes associated with the human remains, a wooden pipe was recovered with the remains, though the whereabouts of the pipe is unknown. No known individual was identified. No associated funerary objects are present.

Analysis determined that the human remains are that of a pre-contact or early historic Native American adult male. No other information is available regarding the circumstances surrounding their removal.

At an unknown date, human remains representing a minimum of one individual were collected near the Carson River, six miles southwest of Fallon, Churchill, NV, by two men who were out rabbit hunting (FHUR 39). Records indicate that human remains were found partially buried in a sand hill. The find was reported to the Churchill County sheriff, who collected the remains and transferred them to the University of Nevada Las Vegas. No known individual was identified. The six associated funerary objects are one woven textile, one leather strip, nail, two 4-hole buttons and one bag of dirt containing fiber material.

Analysis determined that the human remains are that of a Native American male between 30 and 40 years of age.

At an unknown date, human remains representing a minimum of one individual were collected from near Ely, White Pine County, NV (FHUR 41). No known individual was identified. No associated funerary objects are present.

Analysis determined that the human remains are that of a pre-contact or early historic Native American adult male. No other information is available regarding the circumstances surrounding their removal, but records indicate they were transferred to the University of Nevada Las Vegas in 1988.

At an unknown date, human remains representing an adult male were collected from near Warm Springs, Nye County, NV (FHUR 42). No known individual was identified. No associated funerary objects are present.

Analysis determined that the human remains are that of a pre-contact Native American male between the 35 and 45 years of age. No other information is available regarding the circumstances surrounding their removal.

On May 13, 1978, human remains representing a minimum of one individual were collected from a gravel pit located, approximately one mile northeast of Wadsworth, Washoe County, NV (FHUR 57). No known individual was identified. No associated funerary objects are present.

Analysis determined that the human remains are that of a pre-contact or early historic Native American adult male. No other information is available regarding the circumstances surrounding their removal.

On April 28, 1991, human remains representing a minimum of one individual were collected from a soil embankment northeast of State Route 466 near Nixon, Washoe County, NV (FHUR 59). The remains were found by a Paula Wright and Kenneth Paul, who reported it o the Washoe County Sheriff's Office, Bureau of Indian Affairs, and the Pyramid Lake Paiute Rangers. The remains were subsequently collected, examined by the county coroner, and transferred to the University of Nevada Las Vegas. No known individual was identified. No associated funerary objects are present.

Analysis determined that the human remains are that of a pre-contact or early historic Native American adult male.

Archeological, linguistic, and oral historical evidence suggests that the geographical area where the above-mentioned human remains were found was occupied by Western Shoshone and Paiute groups during pre-contact and early historic times. Therefore, museum officials reasonably believe the human remains and associated funerary objects to be culturally affiliated to Western Shoshone and Paiute Indian tribes. Descendants of the Western Shoshone and Paiute are represented by the Alturas Indian Rancheria, California; Battle Mountain Shoshone Tribe (Constituent Band of the Te-Moak Tribe of Western Shoshone Indians of Nevada); Big Pine Paiute Band of Owens Valley Paiute Shoshone Indians of the Big Pine Reservation, California; Bridgeport Paiute Indian Colony of California; Buena Vista Rancheria of the Me-Wuk Indians of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band (Constituent Band of the Te-Moak Tribe of Western Shoshone Indians of Nevada); Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band (Constituent Band of the Te-Moak Tribe of Western Shoshone Indians of Nevada); Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band (Constituent Band of the Te-Moak Tribe of Western Shoshone Indians of Nevada); Winnemucca Indian Colony of Nevada; Yerington Paiute Tribe of the Yerington Colony & Campbell Ranch, Nevada; and Yomba Shoshone Tribe of the Yomba Reservation, Nevada.

Officials of the Department of Anthropology & Ethnic Studies, University of Nevada Las Vegas, have determined that, pursuant to 25 U.S.C. 3001(9), the human remains described above represent the physical remains of six individuals of Native American ancestry. Officials of the Department of Anthropology & Ethnic Studies, University of Nevada Las Vegas, also have determined that, pursuant to 25 U.S.C. 3001(3)(A), the six objects described above are reasonably believed to have been placed with or near individual human remains at the time of death or later as part of the death rite or ceremony. Lastly, officials of the Department of Anthropology & Ethnic Studies, University of Nevada Las Vegas, have determined that, pursuant to 25 U.S.C. 3001(2), there is a relationship of shared group identity that can be reasonably traced between the Native American human remains and associated funerary objects and Alturas Indian Rancheria, California; Battle Mountain Shoshone Tribe; Big Pine Paiute Band of Owens Valley Paiute Shoshone Indians of the Big Pine Reservation, California; Bridgeport Paiute Indian Colony of California; Buena Vista Rancheria of the Me-Wuk Indians of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band; Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band; Winnemucca Indian Colony of Nevada; Yerington Paiute Tribe of the Yerington Colony & Campbell Ranch, Nevada; and Yomba Shoshone Tribe of the Yomba Reservation, Nevada.

Representatives of any other Indian tribe that believes itself to be culturally affiliated with the human remains and associated funerary objects should contact Dr. Karen Harry, Department of Anthropology & Ethnic Study, University of Nevada Las Vegas, 4505 Maryland Parkway, Box 455003, Las Vegas, NV 89154-5003, telephone (702) 895-2534, before September 24, 2010. Repatriation of the human remains and associated funerary objects to the Alturas Indian Rancheria, California; Battle Mountain Shoshone Tribe; Big Pine Paiute Band of Owens Valley Paiute Shoshone Indians of the Big Pine Reservation, California; Bridgeport Paiute Indian Colony of California; Buena Vista Rancheria of the Me-Wuk Indians of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band; Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band; Winnemucca Indian Colony of Nevada; Yerington Paiute Tribe of the Yerington Colony & Campbell Ranch, Nevada; and Yomba Shoshone Tribe of the Yomba Reservation, Nevada, may proceed after that date if no additional claimants come forward.

The Department of Anthropology & Ethnic Studies, University of Nevada Las Vegas, is responsible for notifying officials of the Alturas Indian Rancheria, California; Battle Mountain Shoshone Tribe; Big Pine Paiute Band of Owens Valley Paiute Shoshone Indians of the Big Pine Reservation, California; Bridgeport Paiute Indian Colony of California; Buena Vista Rancheria of the Me-Wuk Indians of California; Burns Paiute Tribe, California; Cedarville Rancheria, California; Chemehuevi Indian Tribe of the Chemehuevi Reservation, California; Confederated Tribes of the Goshute Reservation, Nevada and Utah; Death Valley Timibi-Sha Shoshone Band of California; Duckwater Shoshone Tribe of the Duckwater Reservation, Nevada; Elko Band; Ely Shoshone Tribe of Nevada; Fort Independence Indian Community of Paiute Indians of the Fort Independence Reservation, California; Fort McDermitt Paiute and Shoshone Tribes of the Fort McDermitt Indian Reservation, Arizona; Las Vegas Tribe of Paiute Indians of the Las Vegas Indian Colony, Nevada; Lovelock Paiute Tribe of the Lovelock Indian Colony, Nevada; Moapa Band of Paiute Indians of the Moapa River Indian Reservation, Nevada; Northwestern Band of Shoshoni Nation of Utah (Washakie); Paiute Indian Tribe of Utah; Paiute-Shoshone Indians of the Bishop Community of the Bishop Colony, California; Paiute-Shoshone Tribe of the Fallon Reservation and Colony, Nevada; Paiute-Shoshone Tribe of the Lone Pine Community of the Lone Pine Reservation, California; Pyramid Lake Paiute Tribe of the Pyramid Lake Reservation, Nevada; Reno-Sparks Indian Colony, Nevada; San Juan Southern Paiute Tribe of Arizona; Shoshone Tribe of the Wind River Reservation, Wyoming; Shoshone-Bannock Tribes of the Fort Hall Reservation of Idaho; Shoshone-Paiute Tribes of the Duck Valley Reservation, Nevada; South Fork Band; Summit Lake Paiute Tribe of Nevada; Susanville Indian Rancheria, California; Te-Moak Tribe of Western Shoshone Indians of Nevada; Utu Utu Gwaitu Paiute Tribe of the Benton Paiute Reservation, California; Walker River Paiute Tribe of the Walker River Reservation, Nevada; Washoe Tribe of Nevada and California; Wells Band; Winnemucca Indian Colony of Nevada; Yerington Paiute Tribe of the Yerington Colony & Campbell Ranch, Nevada; and Yomba Shoshone Tribe of the Yomba Reservation, Nevada, that this notice has been published.

Dated: August 19, 2010
David Tarler,
Acting Manager, National NAGPRA Program.

[FR Doc. 2010-21195 Filed 8-24-10; 8:45 am]

BILLING CODE 4312-50-S